DEPARTMENT OF LABOR

Occupational Safety and Health Administration

[Docket No. NRTL1-2001]

TUV Product Services GmbH, Application for Expansion of Recognition

AGENCY: Occupational Safety and Health Administration (OSHA), Labor.

ACTION: Notice.

SUMMARY: This notice announces the application of TUV Product Services GmbH (TUVPSG) for expansion of its recognition to use additional test standards, and presents the Agency's preliminary finding. This preliminary finding does not constitute an interim or temporary approval of this application.

DATES: You must submit information or comments, or any request for extension of the time to comment, by the following dates:

• Hard copy: Your information or comments must be submitted (postmarked or sent) by June 2, 2005.

• Electronic transmission or facsimile: Your comments must be sent by June 2, 2005.

ADDRESSES: You may submit information or comments to this notice—identified by docket number NRTL1-2001—by any of the following methods:

• Federal eRulemaking Portal: http://www.regulations.gov. Follow the instructions for submitting comments.

• OSHA Web site: http://ecomments.osha.gov. Follow the instructions for submitting comments on OSHA's Web page.

• Fax: If your written comments are 10 pages or fewer, you may fax them to the OSHA Docket Office at (202) 693-1648.

• Regular mail, express delivery, hand delivery and courier service: Submit three copies to the OSHA Docket Office, Docket No. NRTL1-2001, U.S. Department of Labor, 200 Constitution Avenue, NW., Room N-2625, Washington, DC 20210; telephone (202) 693-2350. (OSHA's TTY number is (877) 889-5627). OSHA Docket Office hours of operation are 8:15 a.m. to 4:45 p.m., e.s.t.

Instructions: All comments received will be posted without change to http://dockets.osha.gov, including any personal information provided. OSHA cautions you about submitting personal information such as social security numbers and birth dates.

Docket: For access to the docket to read background documents or comments received, go to http://dockets.osha.gov. Contact the OSHA Docket Office for information about materials not available through the OSHA Web page and for assistance in using the Web page to locate docket submissions.

Extension of Comment Period: Submit requests for extensions concerning this notice to: Office of Technical Programs and Coordination Activities, NRTL Program, Occupational Safety and Health Administration, U.S. Department of Labor, Room N3653, 200 Constitution Avenue, NW., Washington, DC 20210. Or fax to (202) 693-1644.

FOR FURTHER INFORMATION CONTACT: Bernard Pasquet, Office of Technical Programs and Coordination Activities, NRTL Program, Occupational Safety and Health Administration, U.S. Department of Labor, 200 Constitution Avenue, NW., Room N3653, Washington, DC 20210, or phone (202) 693-2110.

SUPPLEMENTARY INFORMATION:

Notice of Application

The Occupational Safety and Health Administration (OSHA) hereby gives notice that TUV Product Services GmbH (TUVPSG) has applied for expansion of its current recognition as a Nationally Recognized Testing Laboratory (NRTL). TUVPSG's expansion request covers the use of additional test standards. OSHA's current scope of recognition for TUVPSG may be found in the following informational Web page: http://www.osha-slc.gov/dts/otpca/nrtl/tuvpsg.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha-slc.gov/dts/otpca/nrtl/index.html.

The most recent notice published by OSHA for TUVPSG's recognition covered an expansion of recognition, which became effective on April 22, 2003 (68 FR 19856).

The current address of the TUVPSG facility already recognized by OSHA is: TUV Product Services GmbH, Ridlerstrasse 65, D-80339, Munich, Germany.

General Background on the Application

TUVPSG has submitted an application, dated September 18, 2003 (see Exhibit 10) to expand its recognition to include 5 additional test standards. The NRTL Program staff has determined that each of these standards is an “appropriate test standard” within the meaning of 29 CFR 1910.7(c). Therefore, OSHA would approve these five test standards for the expansion. Following review of the application, OSHA requested certain additional information from TUVPSG and deferred action on the application pending receipt of this information. The NRTL adequately responded recently to that request, permitting OSHA to resume processing of the application.

TUVPSG seeks recognition for testing and certification of products for demonstration of conformance to the following five test standards:

UL 201 Garage Equipment

UL 325 Door, Drapery, Gate, Louver and Window Operator and Systems

UL 696 Electric Toys

UL 697 Toy Transformers

UL 1029 High-Intensity-Discharge Lamp Ballasts

OSHA's recognition of TUVPSG, or any NRTL, for a particular test standard is limited to equipment or materials (i.e., products) for which OSHA standards require third party testing and certification before use in the workplace. Consequently, any NRTL's scope of recognition excludes any product(s) that fall within the scope of a test standard, but for which OSHA standards do not require NRTL testing and certification.

A few of the UL test standards listed above also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Preliminary Finding on the Application

TUVPSG has submitted an acceptable request for expansion of its recognition as an NRTL. In connection with this request, OSHA evaluated the NRTL's capability for the standards during an on-site review of TUVPSG's NRTL facilities, and the assessor has recommended the expansion for the additional standards (see Exhibit 11). Our review of the application file, the assessor's recommendation, and other pertinent documents indicate that TUVPSG can meet the requirements, as prescribed by 29 CFR 1910.7, for the expansion for the additional test standards listed above. This preliminary finding does not constitute an interim or temporary approval of the application.

OSHA welcomes public comments, in sufficient detail, as to whether TUVPSG has met the requirements of 29 CFR 1910.7 for expansion of its recognition as a Nationally Recognized Testing Laboratory. Your comments should consist of pertinent written documents and exhibits. Should you need more time to comment, you must request it in writing, including reasons for the request. OSHA must receive your written request for extension at the address provided above no later than the last date for comments. OSHA will limit any extension to 30 days, unless the requester justifies a longer period. We may deny a request for extension if it is not adequately justified. You may obtain or review copies of TUVPSG's requests, the on-site review report, and all submitted comments, as received, by contacting the Docket Office, Room N2625, Occupational Safety and Health Administration, U.S. Department of Labor, at the above address. Docket No. NRTL1-2001 contains all materials in the record concerning TUVPSG's application.

The NRTL Program staff will review all timely comments and, after resolution of issues raised by these comments, will recommend whether to grant TUVPSG's expansion request. The Agency will make the final decision on granting the expansion and, in making this decision, may undertake other proceedings that are prescribed in Appendix A to 29 CFR Section 1910.7. OSHA will publish a public notice of this final decision in the Federal Register.

Signed in Washington, DC this 9th day of May, 2005.
Jonathan L. Snare,
Acting Assistant Secretary.

[FR Doc. 05-9869 Filed 5-17-05; 8:45 am]

BILLING CODE 4510-26-P